DEPARTMENT OF DEFENSE

GENERAL SERVICES ADMINISTRATION

NATIONAL AERONAUTICS AND SPACE ADMINISTRATION

48 CFR Parts 2, 13, and 19

[FAR Case 2016-004; Correction; Docket No. 2016-0004, Sequence No. 1]

RIN 9000-AN18

Federal Acquisition Regulation: Acquisition Threshold for Special Emergency Procurement Authority; Correction

AGENCY: Department of Defense (DoD), General Services Administration (GSA), and the National Aeronautics and Space Administration (NASA).

ACTION: Proposed rule; correction.

SUMMARY: DoD, GSA, and NASA are issuing a correction to FAR Case 2016-004; Acquisition Threshold for Special Emergency Procurement Authority, which was published in the Federal Register at 81 FR 39882, June 20, 2016.

DATES: Effective: June 28, 2016.

FOR FURTHER INFORMATION CONTACT: Ms. Camara Francis, Procurement Analyst, at 202-550-0935 for clarification of content. For information pertaining to status or publication schedules, contact the Regulatory Secretariat Division at 202-501-4755. Please cite FAR Case 2016-004; Correction.

SUPPLEMENTARY INFORMATION:

Correction

In rule FR Doc. 2016-14413, published in the Federal Register at 81 FR 39882, June 20, 2016, make the following correction:

On page 39883, in the third column, section 13.003, third line, remove “$750,00” and add “$750,000” in its place.

Authority: 40 U.S.C. 121(c); 10 U.S.C. chapter 137; and 51 U.S.C. 20113.

Dated: June 23, 2016.
William Clark,
Director, Office of Government-wide Acquisition Policy, Office of Acquisition Policy, Office of Government-wide Policy.

[FR Doc. 2016-15237 Filed 6-27-16; 8:45 am]

BILLING CODE 6820-EP-P